DEPARTMENT OF COMMERCE

[I.D. 122903B]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Southeast Region Office Socioeconomic Survey of Gulf Shrimp Fishermen.

Form Number(s): None.

OMB Approval Number: 0648-0476.

Type of Request: Regular submission.

Burden Hours: 558.

Number of Respondents: 500.

Average Hours Per Response: 1 hour and 7 minutes.

Needs and Uses: NOAA Fisheries has not collected this data for the Gulf shrimp fishery since 1992. Current economic and social data is needed for the Gulf shrimp fishery as a whole in order to accurately assess the positive and/or negative impacts of federal rules and regulations. The assessments are mandated under Executive Order 12866, the Regulatory Flexibility Act, Magnuson-Stevens/Sustainable Fisheries Acts (and the National Standards attached thereto), and the Endangered Species Act, among others. This survey will update this data, and is intended to be a recurring annual survey.

Affected Public: Business or other for-profit organizations.

Frequency: Annually.

Respondent's Obligation: Voluntary.

OMB Desk Officer: David Rostker, (202) 395-3897.Copies of the above information collection proposal can be obtained by calling or writing Diana Hynek, Departmental Paperwork Clearance Officer, (202) 482-0266, Department of Commerce, Room 6625, 14th and Constitution Avenue, NW, Washington, DC 20230 (or via the Internet at dHynek@doc.gov). Written comments and recommendations for the proposed information collection should be sent within 30 days of publication of this notice to David Rostker, OMB Desk Officer, FAX number 202-395-7285, or David_Rostker@omb.eop.gov.

Dated: December 23, 2003.
Gwellnar Banks,
Management Analyst, Office of the Chief Information Officer.

[FR Doc. 04-94 Filed 1-2-04; 8:45 am]

BILLING CODE 3510-22-S